Title 3—

The President

Proclamation 8241 of April 17, 2008

Small Business Week, 2008

By the President of the United States of America

A Proclamation

In communities across America, small business owners are working hard to turn their dreams into enterprises. Small Business Week is a time to celebrate the many achievements of small business owners, entrepreneurs, and employees, who contribute to the vitality and prosperity of our Nation and create new job opportunities for our citizens.

Small businesses are the backbone of the American economy, and my Administration is committed to fostering an environment in which the entrepreneurial spirit can thrive. By keeping taxes low, we leave more money in the hands of Americans to save, spend, and invest. This year, we have also temporarily expanded incentives to help small businesses invest in new equipment and expand their enterprises. We have also expanded market access and opened new markets for American goods and services abroad, helping our small businesses compete in the global economy. To make health care more affordable and accessible, we continue to support Association Health Plans so small businesses can band together to get the same discounts that big companies receive.

The underpinnings of our economy are strong, competitive, and resilient enough to overcome the challenges we face, and in the long run, Americans can be confident that our economy will continue to grow. During Small Business Week and throughout the year, we recognize the determination and ingenuity of America's workers and entrepreneurs who play a vital role in building a more prosperous future for our country.

NOW, THEREFORE, I, GEORGE W. BUSH, President of the United States of America, by virtue of the authority vested in me by the Constitution and laws of the United States, do hereby proclaim April 20 through April 26, 2008, as Small Business Week. I call upon all Americans to observe this week with appropriate ceremonies, activities, and programs that celebrate the achievements of small business owners and their employees and encourage the development of new small businesses.

IN WITNESS WHEREOF, I have hereunto set my hand this seventeenth day of April, in the year of our Lord two thousand eight, and of the Independence of the United States of America the two hundred and thirty-second.

[FR Doc. 08-1176

Filed 4-21-08; 8:40 am]

Billing code 3195-01-P